ENVIRONMENTAL PROTECTION AGENCY

[FRL-7076-7]

Public Listening Sessions on the Total Maximum Daily Load (TMDL) Program and Related Areas of the National Pollutant Discharge Elimination System (NPDES) Program

AGENCY: Environmental Protection Agency (EPA).

ACTION: Notice of public meetings.

SUMMARY: EPA is inviting all interested members of the public to participate in one or all of a series of five public listening sessions on the Total Maximum Daily Load (TMDL) program (section 303(d) of the Clean Water Act) and related issues in the National Pollutant Discharge Elimination System (NPDES) program (section 402 of the Clean Water Act).

DATES: See Supplementary Information section for meeting dates.

ADDRESSES: See Supplementary Information section for meeting locations.

FOR FURTHER INFORMATION CONTACT: For general information on the meetings and to register to attend one or more meetings, visit EPA's TMDL web site at: http://www.epa.gov/owow/tmdl/meetings/. When registering online, include your name, affiliation, address, phone number, fax number, email, and which TMDL listening session you will attend. If you are unable to register online, please fax registration information to (703) 934-1057. If you have questions about these meetings or if you want to mail in a written statement in advance of a public meeting or after a meeting, contact: Anne C. Weinberg, U.S. EPA Office of Wetlands, Oceans and Watersheds (4503F), U.S. Environmental Protection Agency, 1200 Pennsylvania Avenue, NW., Washington, DC 20460, phone (202) 401-078 or email weinberg.anne@epa.gov.

SUPPLEMENTARY INFORMATION: The purpose of these listening sessions is to: Improve understanding of the TMDL program; provide information about the status of the current program; get stakeholder perspectives on key issues associated with the TMDL program and related issues in the NPDES program; and identify/discuss ideas about how to address issues in the TMDL and NPDES programs. EPA will use the information received at these public listening sessions as it considers changes to the regulations which govern the TMDL program (40 CFR part 130) and related areas of the NPDES program (40 CFR parts 122, 123, and 124), with a view toward proposing modifications in mid-2002.

Four of the public TMDL listening sessions will focus on specific themes/issues including: Implementation of TMDLs Addressing Nonpoint Sources; Scope and Content of TMDLs; EPA's Role, the Pace/Schedule for Development of TMDLs, and National Pollutant Discharge Elimination System (NPDES) Permitting Pre and Post TMDLs; and Listing Impaired Waters. At each of these meetings, the public will have an opportunity to discuss TMDL interests or concerns both related and unrelated to the specific theme/issue of the meeting. At the fifth meeting in Washington, DC, EPA will summarize the input received at the first four public meetings and will provide an opportunity for additional input.

We are using a non-traditional format for these listening sessions. These listening sessions will include: A background presentation by EPA, small group sessions during which participants can choose to discuss issues associated with the theme or other topics of concern to them, and general discussions in plenary session to report the highlights and/or raise questions from the small group sessions. In addition, any person who wishes to file a written statement may do so before or after the public listening session.

Members of the public who would like to attend one or more meetings or submit a written statement, should see the information on registering for meetings and submitting written statements in the For Further Information Contact section of this notice.

Public Meeting Information

The public TMDL listening sessions will be held on the following dates, times and locations, and will focus on the themes/issues indicated below:

1. Public TMDL Listening Session, Chicago, IL

Meeting Theme: Implementation of TMDLs Addressing Nonpoint Sources.

Topics to be discussed include: How can we ensure TMDLs are implemented? What existing technical tools, authorities/programs, and funding sources are available to foster implementation?

Date: Oct. 22-23, 2001.

Time: 1 pm-6 pm on Oct. 22, 2001, and 8 am-noon on Oct. 23, 2001.

Location: The Congress Plaza Hotel, 520 South Michigan Avenue, Chicago, IL 60605, phone: (312) 427-3800 or (800) 635-1666, web site: http://www.congressplazahotel.com.

2. Public TMDL Listening Session, Sacramento, CA

Meeting Theme: Scope and Content of TMDLs.

Topics to be discussed include: Are TMDLs appropriate for all impaired waters and pollutants? How can TMDLs be defined to facilitate the use of adaptive management? How can we develop TMDLs to encourage stakeholder involvement in the allocation process? How can TMDLs be defined to promote a watershed approach?

Date: Nov. 1-2, 2001.

Time: 1 pm—6 pm on Nov. 1, 2001 and 8 am—noon on Nov. 2, 2001.

Location: Doubletree Hotel Sacramento, 2001 Point West Way, Sacramento, CA 95815, phone (916) 929-8855, web site: http://www.doubletreehotels.com.

3. Public TMDL Listening Session, Atlanta, GA

Meeting Theme: EPA's Role, the Pace/Schedule for Development of TMDLs, and NPDES Permitting Pre and Post TMDL.

Topics to be discussed include: How can EPA most effectively support and ensure State TMDL development?; requirements for EPA action in response to States' action or inaction; schedules for development and implementation of TMDLs; NPDES permitting in impaired waters prior to the establishment of a TMDL; and implementing TMDLs in NPDES permits, including the schedule and role of States and EPA in issuing these permits.

Date: Nov. 7-8, 2001.

Time: 1 pm-6 pm on Nov. 7, 2001 and 8 am-noon on Nov. 8, 2001.

Location: Atlanta Capitol Plaza Hotel (formerly Ramada Capitol Plaza Hotel), 450 Capitol Avenue, SW., Atlanta, GA 30312, phone: (404) 591-2000 or (800) 589-7952, web site: http://www.atlantacapitolplaza.com.

4. Public TMDL Listening Session, Oklahoma City, OK

Meeting Theme: Listing Impaired Waters.

Topics to be discussed include: Timing: How often should the section 303(d) list be submitted to EPA (every 2, 4, or 5 years)? Scope: Should the reporting requirements for section 305(b) and section 303(d) be integrated into a single report? List Credibility: What steps should be taken to ensure credible lists of impaired waters? Data and information: What can be done to improve data and information available to support listing decisions? Public review: How can we improve public understanding of listing decisions?

Date: Nov. 15-16, 2001.

Time: 1 pm-6 pm on Nov. 15, 2001 and 8 am-noon on Nov. 16, 2001.

Location: Hilton Oklahoma City Northwest, 2945 Northwest Expressway, Oklahoma City, OK 73112, phone: (405) 848-4811 or (800) HILTONS, web site: http://www.hilton.com.

5. Public TMDL Listening Session, Washington, DC

Meeting Theme: All Issues.

Date: Dec. 11, 2001.

Time: 8:30 am to 5 pm on Dec. 11, 2001.

Location: Wyndham Washington, DC, 1400 M St., NW., Washington, DC 20005, phone: (202) 429-1700 or (800) WYNDHAM, web site: http://www.wyndham.com.

Members of the public who plan to attend any of these meetings should see information on registering for the public meetings in the FOR FURTHER INFORMATION CONTACT section above.

For background information on the TMDL program visit EPA's TMDL web site at: http://www.epa.gov/owow/tmdl/ and for background information on the NPDES program visit EPA's NPDES web site at: http://cfpub1.epa.gov/npdes/).

Dated: October 2, 2001.
Robert H. Wayland III,
Director, Office of Wetlands, Oceans and Watersheds.

[FR Doc. 01-25257 Filed 10-5-01; 8:45 am]

BILLING CODE 6560-50-P